DEPARTMENT OF COMMERCE

International Trade Administration

[A-560-836]

Mattresses From Indonesia: Notice of Court Decision Not In Harmony With the Final Determination of Antidumping Duty Investigation; Notice of Amended Final Determination; Notice of Revocation of Antidumping Order; Correction

AGENCY: Enforcement and Compliance, International Trade Administration, Department of Commerce.

ACTION: Notice; correction.

SUMMARY: The U.S. Department of Commerce (Commerce) published a notice in the Federal Register in March, 2025 in which Commerce announced that a recent U.S. Court of International Trade (CIT) decision was not in harmony with the final determination of Commerce's antidumping duty investigation on mattresses from Indonesia; and as a result of this decision, Commerce is revoking the antidumping duty order. This notice failed to include language about providing a refund to the companies affected by this order.

FOR FURTHER INFORMATION CONTACT: Brian Smith, AD/CVD Operations, Office VIII, Enforcement and Compliance, International Trade Administration, U.S. Department of Commerce, 1401 Constitution Avenue NW, Washington, DC 20230; telephone: (202) 482-1766.

SUPPLEMENTARY INFORMATION:

Background

On March 5, 2025, Commerce published in the Federal Register, Mattresses from Indonesia: Notice of Court Decision Not in Harmony with the Final Determination of Antidumping Duty Investigation; Notice of Amended Final Determination; Notice of Revocation of Antidumping Order.¹ This notice failed to include language about providing a refund to the companies affected by this order.

¹ See Mattresses from Indonesia: Notice of Court Decision Not in Harmony With the Final Determination of Antidumping Duty Investigation; Notice of Amended Final Determination; and Notice of Revocation of Antidumping Order, 90 FR 11256 (March 5, 2025).

Correction

In the Federal Register of March 5, 2025, in FR Doc 2025-03529, on page 11257, in the first column, replace the section titled “Revocation of the Order” section in its entirety with revised language, in its entirety, attached to this notice in the appendix.

Notification to Interested Parties

This notice is issued and published in accordance with sections 516A(c) and (e) and 777(i)(1) of the Act.

Dated: March 14, 2025.
Christopher Abbott,
Deputy Assistant Secretary for Policy and Negotiations, performing the non-exclusive functions and duties of the Assistant Secretary for Enforcement and Compliance.

Appendix

Revocation of the Order

Pursuant to the CIT's holding in PT. Zinus et al. v. United States, Slip Op. 25-15, Consol. Ct. No. 21-277, (February 18, 2025) (PT. Zinus III) sustaining Commerce's second remand redetermination pertaining to the AD investigation of mattresses from Indonesia covering the period of investigation January 1, 2019, through December 31, 2019, Commerce is revoking the AD order on mattresses from Indonesia pursuant to 19 CFR 351.222(b)(2). Pursuant to section 735(c)(2) of the Act, “the investigation shall be terminated upon publication of that negative determination” and Commerce shall “terminate the suspension of liquidation” and “release any bond or other security, and refund any cash deposit.” As a result of the CIT's decision, Commerce is hereby revoking the Order and releasing any bonds or other security and refunding cash deposits.

While section 735(c)(2)(A) of the Act instructs Commerce to terminate suspension of liquidation, here, because suspension of liquidation must continue during the pendency of the appeals process (in accordance with Timken and as discussed above), we will instruct CBP at this time to (A) continue suspension at a cash deposit rate of 0.0 percent until instructed otherwise; and (B) release any bond or other security, and refund any cash deposit made pursuant to the order on Indonesian mattresses published in Mattresses from Cambodia, Indonesia, Malaysia, Serbia, Thailand, the Republic of Turkey, and the Socialist Republic of Vietnam: Antidumping Duty Orders and Amended Final Affirmative Antidumping Determination for Cambodia, 92 FR 26460 (May 14, 2021). In the event the CIT's ruling in PT. Zinus III is not appealed, or if appealed and upheld by the U.S. Court of Appeals for the Federal Circuit, Commerce will instruct CBP to terminate the suspension of liquidation and to liquidate those entries of subject merchandise without regard to antidumping duties. Notwithstanding the continued suspension described above, the AD order on mattresses from Indonesia is hereby revoked. As a result of this revocation, Commerce is discontinuing all unfinished administrative reviews immediately and will not initiate any new administrative reviews of the Order.

[FR Doc. 2025-04763 Filed 3-19-25; 8:45 am]

BILLING CODE 3510-DS-P